DEPARTMENT OF TRANSPORTATION

Federal Railroad Administration

[Docket Number FRA-2007-28340]

Petition for Waiver of Compliance

Under part 211 of title 49 Code of Federal Regulations (CFR), this provides the public notice that on October 24, 2019, Union Pacific Railroad Company (UP) petitioned the Federal Railroad Administration (FRA) to renew a waiver of compliance from certain provisions of the Federal railroad safety regulations contained at 49 CFR 232.205, Class I brake test—initial terminal inspection, and part 215, Railroad Freight Car Safety Standards. FRA assigned the petition Docket Number FRA-2007-28340.

By letter dated April 24, 2015, UP received conditional relief from these Federal railroad safety regulations for freight cars received in interchange at the U.S./Mexico border crossing in Brownsville, Texas, to permit required inspections to be conducted in Olmito, Texas, 5.65 miles north of West Rail International Bridge, located west of Brownsville, Texas. The original justification for the relief, as stated by UP, was to reduce train delays and congestion within the city of Brownsville, Texas. By letter dated February 7, 2018, UP received a modified waiver to incorporate unified conditions with its recently renewed waivers for its Mexican interchanges at Laredo and Eagle Pass, Texas, and Nogales, Arizona.

In support of its present petition to extend its relief, UP states it has been operating under the requirements set forth in this waiver since the grant date and have found no adverse effect on operational safety.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by February 21, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-00976 Filed 1-21-20; 8:45 am]

BILLING CODE 4910-06-P